GENERAL SERVICES ADMINISTRATION

[Notice-MG-2013-01; Docket No. 2013-0002; Sequence 9]

Office of Federal High-Performance Green Buildings; Green Building Advisory Committee; Notification of Upcoming Public Advisory Committee Meeting

AGENCY: Office of Government-wide Policy, General Services Administration (GSA).

ACTION: Meeting notice.

SUMMARY: Notice of this meeting is being provided according to the requirements of the Federal Advisory Committee Act, 5 U.S.C. App., 10(a)(2). This notice provides the schedule and agenda for the May 1, 2013, meeting of the Green Building Advisory Committee Meeting (the Committee). The meeting is open to the public and the site is accessible to individuals with disabilities. Due to limited conference space, individuals must register to attend as instructed below under Supplementary Information.

DATES: Effective date: April 10, 2013.

Meeting date: The meeting will be held on Wednesday, May 1,2013 starting at 9:00 a.m. eastern standard time and ending no later than 3:00 p.m.

FOR FURTHER INFORMATION CONTACT: Ken Sandler, Designated Federal Officer, Office of Federal High-Performance Green Buildings, Office of Government-wide Policy, General Services Administration, 1275 First Street NE., Room 633D, Washington, DC 20417, telephone 202-219-1121 (note: this is not a toll-free number). Additional information about the Committee is available online at http://www.gsa.gov/portal/content/121999.

SUPPLEMENTARY INFORMATION:

Procedures for Providing Public Comments: Contact Ken Sandler at 202-219-1121 to register to attend and to comment during the meeting's public comment period. Registered speakers/organizations will be allowed a maximum of 5 minutes each and will need to provide written copies of their presentations. Requests to comment at the meeting must be received by 5:00 p.m. eastern standard time on Monday, April 29, 2013. Written comments may be provided to Mr. Sandler at ken.sandler@gsa.gov until 5:00 p.m. eastern standard time Monday, April 29, 2013.

Availability of Materials for the Meeting: Please contact Mr. Sandler at the email address above to register to attend this meeting and obtain meeting materials.

Materials may also be accessed online at http://www.gsa.gov/portal/content/121999. To attend this meeting, please submit your full name, organization, email address, and phone number to Ken Sandler by 5:00 p.m. eastern standard time on Monday, April 29, 2013.

Background: The Green Building Advisory Committee provides advice to GSA as specified in Public Law 110-140, as a mandatory Federal advisory committee. Under this authority, the Committee will advise GSA on the rapid transformation of the Federal building portfolio to sustainable technologies and practices. The Committee's focus is primarily on reviewing strategic plans, products and activities of the Office of Federal High-Performance Green Buildings and providing advice regarding how the Office can most effectively accomplish its mission.

Agenda:

• Introductions & Plans for Today's Meeting.

• Climate Change Adaptation.

• Green Building Certification System Review.

• Lunch.

• Next Steps for the Committee.

• Public Comment Period: 30 minute public comment period for individuals pre-registered per instructions above. Each individual will be able to speak for no more than 5 minutes.

• Closing comments.

Meeting Access: The Committee will convene its meeting at: US Access Board Conference Room, 1331 F Street NW., Suite 800, Washington, DC 20004. Persons attending meetings in the Access Board's conference space are requested to refrain from using perfume, cologne, and other fragrances (see http://www.access-board.gov/about/policies/fragrance.htm for more information).

Dated: April 4, 2013.
Kevin Kampschroer,
Federal Director, Office of Federal High-Performance Green Buildings, Office of Government-wide Policy, General Services Administration.

[FR Doc. 2013-08280 Filed 4-9-13; 8:45 am]

BILLING CODE 6820-27-P